DEPARTMENT OF TRANSPORTATION

Surface Transportation Board

[STB Finance Docket No. 34521]

Cleveland Commercial Railroad Company, LLC—Change in Operators Exemption—Wheeling & Lake Erie Railway Company

Cleveland Commercial Railroad Company, LLC (CCR), a noncarrier, has filed a verified notice of exemption under 49 CFR 1150.31 to operate a line of railroad owned by Wheeling & Lake Erie Railway Company (W&LE). Pursuant to a Lease and Operating Agreement entered into on June 21, 2004, between CCR and W&LE, CCR will lease and operate W&LE's rail line extending from a connection with W&LE at milepost 15.5 at Falls Junction, in Glenwillow, OH, to milepost 5.1, in Cleveland, OH, a distance of approximately 10.4 miles, in Cuyahoga County, OH. The line has been operated previously by Connotton Valley Railway, Inc. (CVR).¹

¹ See Connotton Valley Railway, Inc.—Lease and Operation Exemption—Wheeling & Lake Erie Railway Company, STB Finance Docket No. 34264 (STB served Nov. 7, 2002). On June 18, 2004, CVR's lease of the line terminated, and CVR ceased all operations on the line. W&LE has been providing rail service to customers on the line since June 18, 2004, pursuant to its underlying common carrier obligation as owner of the line. Upon consummation of the change in operators authorized by the exemption, CVR's authority to lease and operate the line will terminate. W&LE states that CVR consents to the proposed change in operators of the line.

The parties indicated that the transaction was scheduled to be consummated not less than 7 days after the exemption was filed, which would have been July 15, 2004.

If the verified notice contains false or misleading information, the exemption is void ab initio. Petitions to reopen the proceeding to revoke the exemption under 49 U.S.C. 10502(d) may be filed by any time. The filing of a petition to revoke will not automatically stay the transaction.

An original and 10 copies of all pleadings, referring to STB Finance Docket No. 34521, must be filed with the Surface Transportation Board, 1925 K Street, NW., Washington, DC 20423-0001. In addition, a copy of each pleading must be served on Jami L. Bishop, Law Offices of Bishop & Nosich, LLC, 143 West Main Street, Cortland, OH 44410.

Board decisions and notices are available on our Web site at http://www.stb.dot.gov.

Decided: July 30, 2004.
By the Board, David M. Konschnik, Director, Office of Proceedings.
Vernon A. Williams,
Secretary.

[FR Doc. 04-18010 Filed 8-5-04; 8:45 am]

BILLING CODE 4915-01-P